FEDERAL RESERVE SYSTEM

Notice of Proposals To Engage in or To Acquire Companies Engaged in Permissible Nonbanking Activities

The companies listed in this notice have given notice under section 10 of the Home Owners' Loan Act (12 U.S.C. 1467a) (HOLA) and Regulation LL (12 CFR part 238) to engage de novo, or to acquire or control voting securities or assets of a company, including the companies listed below, that engages either directly or through a subsidiary or other company, in a nonbanking activity that is listed in § 238.53 of Regulation LL (12 CFR 238.53). Unless otherwise noted, these activities will be conducted throughout the United States.

Each application is available for inspection at the Federal Reserve Bank indicated. The application also will be available for inspection at the offices of the Board of Governors. Interested persons may express their views in writing on the question whether the proposal complies with the standards of section 10(c)(4)(B) of HOLA (12 U.S.C. 1467a(c)(4)(B)).

Unless otherwise noted, comments regarding the applications must be received at the Reserve Bank indicated or the offices of the Board of Governors, Ann E. Misback, Secretary of the Board, 20th Street and Constitution Avenue NW, Washington, DC 20551-0001, not later than March 30, 2020.

A. Federal Reserve Bank of Minneapolis (Chris P. Wangen, Assistant Vice President), 90 Hennepin Avenue, Minneapolis, Minnesota 55480-0291:

1. MidCountry Acquisition Corp., Minneapolis, Minnesota; to engage in nonbanking activities pursuant to sections 238.53(b)(2) and (b)(3) of Regulation LL through the formation of CB Shared Services, Inc., Minneapolis, Minnesota, which will provide information technology, human resources, Call Report preparation, and compliance services to MidCountry Bank, Bloomington, Minnesota, and other subsidiary banks of holding company affiliates.

Board of Governors of the Federal Reserve System, March 9, 2020.
Yao-Chin Chao,
Assistant Secretary of the Board.

[FR Doc. 2020-05102 Filed 3-12-20; 8:45 am]

BILLING CODE P